DEPARTMENT OF TRANSPORTATION

Federal Aviation Administration

Operating Limitations at John F. Kennedy International Airport

AGENCY: Federal Aviation Administration (FAA), Department of Transportation (DOT).

ACTION: Extension to order.

SUMMARY: This action extends the Order Limiting Operations at John F. Kennedy International Airport (JFK) published on January 18, 2008, and most recently extended on October 28, 2022. The Order remains effective until October 24, 2026.

DATES: This action is effective on October 27, 2024.

ADDRESSES: Requests may be submitted by mail to Slot Administration Office, System Operations Services, AJR-0, Room 300W, 800 Independence Avenue SW, Washington, DC 20591, or by email to: 7-awa-slotadmin@faa.gov.

FOR FURTHER INFORMATION CONTACT: Al Meilus, Capacity Analysis and Slot Administration, FAA ATO System Operations Services, AJR-G5, Federal Aviation Administration, 800 Independence Avenue SW, Washington, DC 20591; telephone (202) 267-2822; email al.meilus@faa.gov.

SUPPLEMENTARY INFORMATION:

Availability of Relevant Documents

You may obtain an electronic copy using the internet by:

(1) Searching the Federal eRulemaking Portal at www.regulations.gov;

(2) Visiting the FAA's Dynamic Regulatory System website at https://drs.faa.gov; or

(3) Accessing the Government Publishing Office's website at www.GovInfo.gov.

You also may obtain a copy by sending a request to the Federal Aviation Administration, Capacity Analysis and Slot Administration Office, AJR-G5, 800 Independence Avenue SW, Washington, DC 20591, or by calling (202) 267-2822. Make sure to identify the docket number.

Background

The FAA historically limited the number of arrivals and departures at JFK through the implementation of the High Density Rule (HDR).¹ By statute enacted in April 2000 (Aviation Investment and Reform Act for the 21st Century (AIR-21)), operations were added at JFK through provisions permitting exemptions for new entrant carriers and flights to small and non-hub airports.²

¹ 33 FR 17896 (Dec. 3, 1968). The FAA codified the rules for operating at high density traffic airports in 14 CFR part 93, subpart K. The HDR required carriers to hold a reservation, which came to be known as a “slot,” for each takeoff or landing under instrument flight rules at the high density traffic airports.

² Aviation Investment and Reform Act for the 21st Century (AIR-21), Public Law 106-181 (Apr. 5, 2000), 49 U.S.C. 41715(a)(2).

The HDR's applicability to JFK operations terminated as of January 1, 2007.³ With the AIR-21 exemptions and the HDR phase-out, some air carriers serving JFK significantly increased their scheduled operations throughout the day and retimed existing flights. This resulted in scheduled demand in peak hours that exceeded the airport's capacity and caused significant congestion and delay.

³ Id.

In January 2008, the FAA placed temporary limits on scheduled operations at JFK to mitigate persistent congestion and delays at the airport.⁴ The FAA extended the January 18, 2008, Order placing temporary limits on scheduled operations at JFK on October 7, 2009, April 4, 2011, May 14, 2013, March 26, 2014, May 24, 2016, as corrected June 21, 2016, September 17, 2018, September 18, 2020, and on October 28, 2022.⁵

⁴ 73 FR 3510 (Jan. 18, 2008), as amended by 73 FR 8737 (Feb. 14, 2008).

⁵ 74 FR 51650; 76 FR 18620; 78 FR 28276; 79 FR 16854; 81 FR 32636; 81 FR 40167; 83 FR 46865; 85 FR 58258; and 87 FR 65161.

Under this Order, as amended, the FAA (1) maintains the current hourly limits of 81 scheduled operations at JFK during the slot-controlled hours; (2) imposes an 80 percent minimum usage requirement for Operating Authorizations (OAs) ⁶ with defined exceptions; (3) provides a mechanism for withdrawal of OAs for FAA operational reasons; (4) establishes procedures to allocate withdrawn, surrendered, or unallocated OAs; and (5) allows for trades and leases of OAs for consideration for the duration of the Order.

⁶ Also referred to herein as “slots.”

The reasons for retaining the Order have not changed appreciably since its initial issuance. Despite the dynamic demand during the 2022-2024 period, demand for access to JFK remains high and multiple new entrant and other incumbent airlines have requested new peak period operations and retiming of existing flights to higher demand hours. The FAA has determined that the operational limitations imposed by this Order remain necessary. In the Winter 2023/2024 scheduling season, the allocated slots in the busiest hours were generally at the limits under this Order. For the Summer 2024 scheduling season, the initial requests for historic slots and retiming of existing slots continue to show demand is higher than the scheduling limits in multiple hours. Without the operational limitations imposed by the Order, the FAA expects severe congestion-related delays would occur at JFK and at other airports throughout the National Airspace System (NAS).

The FAA will continue to monitor demand, performance, and runway capacity at JFK, to determine if changes are warranted during the effective period of this Order. The FAA, in coordination with the Office of the Secretary of Transportation (OST), will also continue to consider potential rulemaking to codify policies for slot-controlled airports.

Pending Issues

In extending the Orders limiting operations at JFK and LaGuardia National Airport (LGA) in 2018, the FAA noted that receipt of specific proposals for policy changes that would necessitate modifications to the Orders.⁷ Consideration of these issues is ongoing. In addition, the FAA is reviewing substantive amendments to the International Air Transport Association Worldwide Slot Guidelines (WSG, now known as the Worldwide Airport Slot Guidelines or “WASG”) and considering whether to implement certain changes in the United States.⁸

⁷ See discussion of “Current Issues” in 2018 JFK Order, 83 FR at 46865, and 2018 LGA Order, 83 FR at 47065.

⁸ https://www.iata.org/en/policy/slots/slot-guidelines/.

Accordingly, the FAA is extending the expiration date of this Order until October 24, 2026. This expiration date coincides with the extended expiration date for the Order limiting operations at LGA, as also published elsewhere in the Federal Register.

The FAA continues to monitor demand, performance, and runway capacity at JFK, to determine if changes are warranted during the effective period of this Order. The FAA continues to study and analyze airport runway configurations, capacity, delays with alternative demand scenarios, as well as consider a number of the complexities associated with JFK operations, including interaction with other nearby airports and operational growth limitations due to the busy airspace surrounding the New York Area.

The FAA finds that notice and comment procedures under 5 U.S.C. 553(b) are impracticable, unnecessary, and contrary to the public interest, as carriers have planned schedules for the Winter 2024/2025 scheduling season and no significant substantive changes are included in this action. For these reasons, the FAA also finds that it is impracticable and contrary to the public interest to delay the effective date of this Order under 5 U.S.C. 553(d).

This Order is the equivalent of limited local rules as referenced in the WSG and takes precedence over the WSG where there are differences.⁹

⁹ As previously indicated, the FAA is reviewing substantive amendments to the WSG adopted in version 10 (Aug. 1, 2019) and included in the current WASG, and considering whether to implement certain changes in the United States. The FAA continues to generally apply edition 9 of the WSG (Jan. 1, 2019) to inform its slot administration decisions at JFK, available at: www.regulations.gov/document/FAA-2007-29320-0058.

At JFK, the FAA follows the WSG in many respects such as new entrant priority ¹⁰ and consideration of schedule constraints such as terminal, gate, parking, customs and immigration, curfews, and similar operational factors.

¹⁰ Under current policy and procedures, the FAA applies the definitions for “new entrant” as set forth in the WSG edition 9 (Jan. 1, 2019), which is “an airline requesting a series of slots at an airport on any day where, if the airline's request were accepted, it would hold fewer than 5 slots at that airport on that day.”

The Amended Order

The Order, as amended, is recited below in its entirety.

1. This Order continues the process for assigning operating authority to conduct an arrival or a departure at JFK during the affected hours to any certificated U.S. air carrier or foreign air carrier. The FAA will not assign operating authority under this Order to any person or entity other than a certificated U.S. or foreign air carrier with appropriate economic authority and with operating authority from FAA under 14 CFR part 121, 129, or 135. This Order applies to the following:

a. All U.S. air carriers and foreign air carriers conducting scheduled operations at JFK as of the date of this Order, any U.S. air carrier or foreign air carrier that operates under the same designator code as such a carrier, and any air carrier or foreign-flag carrier that has or enters into a codeshare agreement with such a carrier.

b. All U.S. air carriers or foreign air carriers initiating scheduled or regularly conducted commercial service to JFK while this Order is in effect.

c. The Vice President, System Operations Services, in coordination with the Chief Counsel of the FAA, is the final decision maker for determinations under this Order.

2. This Order governs scheduled arrivals and departures at JFK from 6 a.m. through 10:59 p.m., Eastern Time, Sunday through Saturday.

3. This Order took effect on March 30, 2008, and will expire October 24, 2026.

4. Under the authority provided to the Secretary of Transportation and the FAA Administrator by 49 U.S.C. 40101, 40103, and 40113, we hereby order that:

a. No U.S. air carrier or foreign air carrier initiating or conducting scheduled or regularly conducted commercial service at JFK may conduct such operations without an Operating Authorization assigned by the FAA.

b. Except as otherwise authorized by the FAA based on historic precedence, scheduled U.S. air carrier and foreign air carrier arrivals and departures will not exceed 81 per hour from 6 a.m. through 10:59 p.m., Eastern Time.

c. The Administrator may change the limits if the Administrator determines that capacity exists to accommodate additional operations without a significant increase in delays.

5. For administrative tracking purposes only, the FAA will assign an identification number to each Operating Authorization.

6. A carrier holding an Operating Authorization may request the Administrator's approval to move any arrival or departure scheduled from 6:00 a.m. through 10:59 p.m. to another half hour within that period. Except as provided in paragraph 7, the carrier must receive the written approval of the Administrator, or his delegate, prior to conducting any adjusted arrival or departure. All requests to move an allocated Operating Authorization must be submitted to the FAA Slot Administration Office, email 7-AWA-Slotadmin@faa.gov, and must come from a designated representative of the carrier. If the FAA cannot approve a carrier's request to move a scheduled arrival or departure, the carrier may then apply for a trade in accordance with paragraph 7.

7. For the duration of this Order, a carrier may enter into a lease or trade of an Operating Authorization to another carrier for any consideration. Notice of a trade or lease under this paragraph must be submitted in writing to the FAA Slot Administration Office, email 7-AWA-Slotadmin@faa.gov, and must come from a designated representative of each carrier. The FAA must confirm and approve these transactions in writing prior to the effective date of the transaction. The FAA will approve transfers between carriers under the same marketing control up to five business days after the actual operation, but only to accommodate operational disruptions that occur on the same day of the scheduled operation. The FAA's approval of a trade or lease does not constitute a commitment by the FAA to grant the associated historical rights to any operator in the event that slot controls continue at JFK after this Order expires.

8. A carrier may not buy, sell, trade, or transfer an Operating Authorization, except as described in paragraph 7.

9. Historical rights to Operating Authorizations and withdrawal of those rights due to insufficient usage will be determined on a seasonal basis and in accordance with the schedule approved by the FAA prior to the commencement of the applicable season.

a. For each day of the week that the FAA has approved an operating schedule, any Operating Authorization not used at least 80% of the time over the time-frame authorized by the FAA under this paragraph will be withdrawn by the FAA for the next applicable season except:

i. The FAA will treat as used any Operating Authorization held by a carrier on Thanksgiving Day, the Friday following Thanksgiving Day, and the period from December 24 through the first Saturday in January.

ii. The Administrator of the FAA may waive the 80% usage requirement in the event of a highly unusual and unpredictable condition which is beyond the control of the carrier and which affects carrier operations for a period of five consecutive days or more.

b. Each carrier holding an Operating Authorization must forward in writing to the FAA Slot Administration Office a list of all Operating Authorizations held by the carrier along with a listing of the Operating Authorizations and:

i. The dates within each applicable season it intends to commence and complete operations.

A. For each winter scheduling season, the report must be received by the FAA no later than August 15 during the preceding summer.

B. For each summer scheduling season, the report must be received by the FAA no later than January 15 during the preceding winter.

ii. The completed operations for each day of the applicable scheduling season:

A. No later than September 1 for the summer scheduling season.

B. No later than January 15 for the winter scheduling season.

iii. The completed operations for each day of the scheduling season within 30 days after the last day of the applicable scheduling season.

10. In the event that a carrier surrenders to the FAA any Operating Authorization assigned to it under this Order or if there are unallocated Operating Authorizations, the FAA will determine whether the Operating Authorizations should be reallocated. The FAA may temporarily allocate an Operating Authorization at its discretion. Such temporary allocations will not be entitled to historical status for the next applicable scheduling season under paragraph 9.

11. The FAA considers the following factors and priorities in allocating Operating Authorizations, which the FAA has determined are available for reallocation—

a. Historical requests for allocation of an Operating Authorization in the same time;

b. New entrant status;

c. Retiming of historic Operating Authorizations;

d. Extension of a seasonal Operating Authorization to year-round service;

e. The effective period of operation;

f. The extent and regularity of intended use with priority given to year-round services;

g. The operational impacts of scheduled demand, including the hourly and half-hour demand and the mix of arrival and departure flights; and,

h. Airport facility constraints.

Any carrier that is not approved for allocation of an Operating Authorization by the FAA may request it be placed on a waiting list for consideration should an Operating Authorization in the requested time become available during that scheduling season.

12. If the FAA determines that an involuntary reduction in the number of allocated Operating Authorizations is required to meet operational needs, such as reduced airport capacity, the FAA will conduct a weighted lottery to withdraw Operating Authorizations to meet a reduced hourly or half-hourly limit for scheduled operations. The FAA will provide at least 45 days' notice unless otherwise required by operational needs. Any Operating Authorization that is withdrawn or temporarily suspended will, if reallocated, be reallocated to the carrier from which it was taken, provided that the carrier continues to operate scheduled service at JFK.

13. The FAA may enforce this Order through an enforcement action seeking a civil penalty under 49 U.S.C. 46301(a). The FAA or Department of Justice also could file a civil action in U.S. District Court, under 49 U.S.C. 46106 or 46107, respectively, seeking to enjoin any carrier from violating the terms of this Order.

14. The FAA may modify or withdraw any provision in this Order on its own or on application by any carrier for good cause shown.

Issued in Washington, DC, on May 7, 2024.
Alyce Hood-Fleming,
Vice President, System Operations Services.

[FR Doc. 2024-10297 Filed 5-10-24; 8:45 am]

BILLING CODE 4910-13-P